DEPARTMENT OF HEALTH AND HUMAN SERVICES

Administration for Children and Families

Submission for OMB Review; Phase II Evaluation Activities for Implementing a Next Generation Evaluation Agenda for the Chafee Foster Care Program for Successful Transition to Adulthood—Extension (OMB #0970-0489)

AGENCY: Office of Planning, Research, and Evaluation, Administration for Children and Families, HHS.

ACTION: Request for public comment.

SUMMARY: The Administration for Children and Families (ACF) at the U.S. Department of Health and Human Services (HHS) requests an extension to continue data collection for the Phase II Evaluation Activities for Implementing a Next Generation Evaluation Agenda for the Chafee Foster Care Program for Successful Transition to Adulthood (OMB #0970-0489; Previously titled: Phase II Evaluation Activities for Implementing a Next Generation Evaluation Agenda for the Chafee Foster Care Independence Program). Information collection activities requested include interviews, focus group discussions and administrative data collection. There are no changes proposed to the currently approved materials.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The ACF, Office of Planning, Research, and Evaluation (OPRE) requests public comment on a proposed extension to a currently approved information collection for the Chafee Foster Care Program for Successful Transition to Adulthood (previously known as the Chafee Foster Care Independence Program). Activities include preliminary visits to discuss the evaluation process with program administrators and site visits to each program to speak with program leaders, partners, key stakeholders, front-line staff, and participants. These formative evaluations will determine programs' readiness for more rigorous evaluation in the future. The activities and products from this project will help ACF to fulfill the ongoing legislative mandate for program evaluation specified in the Foster Care Independence Act of 1999.

Respondents: Semi-structured interviews will be held with program leaders, partners, stakeholders, front-line staff, and young adults being served by the programs.

Annual Burden Estimates
Instrument | Number of respondents (total over request period) | Number of responses per respondent (total over request period) | Average burden per response (in hours) | Total burden (in hours) | Annual burden (in hours)
Program Staff Recruitment for Focus Group Participants | 96 | 1 | 8 | 768 | 384
Discussion Guide for program leaders | 23 | 1 | 1 | 23 | 12
Discussion Guide for program partners and stakeholders | 14 | 1 | 1 | 14 | 7
Discussion Guide for program front-line staff | 66 | 1 | 1 | 66 | 33
Focus Group Guide for program participants | 240 | 1 | 2 | 480 | 240

Authority: Title IV-E of the Social Security Act, IV-E § 477(g) (1-2), as amended by the Foster Care Independence Act of 1999.

Mary B. Jones,
ACF/OPRE Certifying Officer.

[FR Doc. 2021-06340 Filed 3-26-21; 8:45 am]

BILLING CODE 4184-01-P